DEPARTMENT OF LABOR

Employment and Training Administration

[TA-W-65,621]

Mississippi Polymers, Incorporated, Corinth, MS; Notice of Termination of Investigation

Pursuant to Section 221 of the Trade Act of 1974, as amended, an investigation was initiated on March 18, 2009 in response to a petition filed by a company official on behalf of workers of Mississippi Polymers, Incorporated, Corinth, Mississippi.

The petitioner has requested that the petition be withdrawn. Therefore, the investigation under this petition has been terminated.

Signed at Washington, DC, this 20th day of April 2009.
Linda G. Poole,
Certifying Officer, Division of Trade Adjustment Assistance.

[FR Doc. E9-10916 Filed 5-8-09; 8:45 am]

BILLING CODE 4510-FN-P